DEPARTMENT OF THE INTERIOR

Bureau of Land Management

[WO-320-1990-02 24 1A]

Extension of Currently Approved Information Collection, OMB Approval Number 1004-0025

AGENCY: Bureau of Land Management, Interior.

ACTION: Notice and request for comments.

SUMMARY: In accordance with the Paperwork Reduction Act of 1995, the Bureau of Land Management (BLM) announces its intention to request extension of approval to collect certain information from all owners of unpatented mining claims or mill sites who desire to apply for a mineral patent to their mining claim or mill site. Also included in this extension request are collections of information from any rival claimant with overlapping claims to the land applied for, or from anyone challenging the issuance of the patent upon alleged failure to follow law or regulations. BLM uses this information to determine the right to a mineral patent and to secure a settlement of all disputes concerning the property in order to issue the patent to the rightful owner.

DATES: Comments on the proposed information collection must be received by April 18, 2000, to be assured of consideration.

ADDRESSES: You may: (1) Mail comments to: Regulatory Management Team (630), Bureau of Land Management, 1849 C Street, NW, Room 401LS, Washington, D.C. 20240; (2) Send comments via Internet to: WOComment@blm.gov.; or (3) hand-deliver comments to: Bureau of Land Management Administrative Record, Room 401, 1620 L Street, NW, Washington, D.C. If you send comments via the Internet, please include “ATTN: 1004-0114” and your name and return address in your message.

Comments will be available for public review at the L Street address during regular business hours (7:45 a.m. to 4:15 p.m.), Monday through Friday.

FOR FURTHER INFORMATION CONTACT: Roger A. Haskins, Solid Minerals Group, (202) 452-0355.

SUPPLEMENTARY INFORMATION: In accordance with 5 CFR 1320.12(a), BLM is required to provide 60-day notice in the Federal Register concerning a collection of information contained in current rules to solicit comments on (a) whether the collection of information is necessary for the proper performance of the functions of the agency, including whether the information will have practical utility; (b) the accuracy of the agency's estimate of the burden of the collection of information, including the validity of the methodology and assumptions used; (c) ways to enhance the quality, utility, and clarity of the information to be collected; and (d) ways to minimize the burden of the collection of information on those who are to respond, including through the use of appropriate automated, electronic, mechanical, or other technological collection techniques or other forms of information technology. BLM will analyze any comments sent in response to this notice and include them with its request for extension of approval from the Office of Management and Budget under 44 U.S.C. 3501 et seq.

Under the General Mining Law (30 U.S.C. 29, 30, and 39), those who explore for and locate valuable mineral deposits on the public domain are rewarded for their efforts by the opportunity to obtain legal title (patent) to the land. The patent process is implemented by BLM's regulations at 43 CFR Part 3860, which were revised into their current form in 1970 (35 FR 9754, June 13, 1970) and amended in 1973 (38 FR 30001. October 31, 1973). The implementing regulations require a patent applicant to provide the following information:

Mineral survey application. Under 43 CFR Subpart 3861, the holder of a claim who desires to obtain a patent must submit to BLM a mineral survey for all lode claims, most mill sites, and placer claims located upon unsurveyed public lands, as a requisite to applying for patent. BLM uses Bureau Form 3860-5 to collect the mining claim or site recording, chain-of-title, and geographic location information so that BLM can authorize a Deputy United States Mineral Surveyor to survey the claims or sites.

Mineral patent application. Under 43 CFR Subparts 3862, 3863 and 3864, a mineral patent applicant must file certain proofs of ownership demonstrating clear title to the claim(s) or millsite(s), bonafides of development, and the existence of a commercial mineral deposit subject to the General Mining Law of 1872, as amended. BLM uses Bureau Form 3860-2 for title companies issuing a title opinion on mining claims so that BLM will have a standardized reporting process.

Under 30 U.S.C. 29 and 30 and 43 CFR Part 3870, any rival claimant with overlapping claims to the land applied for, or anyone challenging the issuance of the patent upon alleged failure to follow law or regulation, must file with BLM certain required statements and evidence supporting their challenge, or the challenge is statutorily dismissed.

BLM uses the information collected under these two Parts (43 CFR Parts 3860 and 3870) to determine if an applicant qualifies for a mineral patent to the claims or sites applied for under the Mining Law, to process legal challenges to such application by rival mining claimants, and to adjudicate protests and appeals files against BLM actions concerning mineral patent applications.

The Mining Law specifies the information required of an applicant for mineral patent, a party filing an adverse claim, or a party filing a protest against a mineral patent application. If BLM did not collect this information, it could not adjudicate mineral patents and it could not recommend to the Secretary of the Interior an application for either patent issuance or initiation of mineral contest proceedings.

Any interested member of the public may request and obtain, without charge, a copy of Bureau Forms 3860-2 and 3860-5 by contacting the person identified under FOR FURTHER INFORMATION CONTACT.

Based on its experience administering the General Mining Law, BLM estimates the public reporting burden for completing the information collections described above as follows: mineral survey application—one hour, mineral patent application—80 hours, and adverse claim or protest—two hours. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; train personnel to be able to respond to a collection of information; search data sources; complete and review the collection of information; and transmit or otherwise disclose the information.

The respondents are owners of unpatented mining claims and mill sites located upon the public lands, reserved mineral lands of the United States, National Forests, and National Parks. The frequency of response is once for each mineral survey, each application for patent, and each filing of a protest or adverse claim. Since October 1, 1994 and each fiscal year thereafter, Congress has imposed a budget moratorium on the BLM such that no new mineral patent applications may be filed and any application existing on October 1, 1994 that was not grandfathered under the initial legislation may not be further adjudicated by BLM. This moratorium does not affect mineral surveys, contests, or protests to existing mineral patent applications. It is unlikely that Congress will remove the annual moratorium until the revised General Mining Law is enacted at some future date.

In the absence of the moratorium, BLM estimates that it would receive 150 mineral patent applications, two adverse claims and three protests each year. The total annual burden is 30 hours for mineral survey applications, 12,000 for mineral patent applications, 20 hours for adverse claims, and six hours for protests. In the absence of the moratorium, the total annual burden for this consolidated information collection is 12,056 hours. If the moratorium remains in place, BLM estimates that it would receive no mineral patent applications, no adverse claims and ten protests each year. The total annual burden is then 30 hours for mineral survey applications, zero for mineral patent applications, zero hours for adverse claims, and 20 hours for protests. In the absence of the moratorium, the total annual burden for this consolidated information collection is 50 hours.

All responses to this notice will be summarized and included in the request for Office of Management and Budget approval. All comments will also become part of the public record.

Dated: February 1, 2000.
Carole Smith,
BLM Information Collection Information Officer.

[FR Doc. 00-3955 Filed 2-17-00; 8:45 am]

BILLING CODE 4310-84-M